DEPARTMENT OF THE INTERIOR

National Park Service

Notice of Proposed Award; Temporary Concession Contract for Great Smoky Mountains National Park, TN

SUMMARY: Public notice is hereby given that the National Park Service proposes to award a temporary concession contract that requires the operation of horseback riding stables and vending machine sales of soft drinks and bottled water, and authorizes limited souvenir sales in the Sugarlands region of the Great Smoky Mountains National Park near Gatlinburg, Tennessee for a term not to exceed October 31, 2007.

DATES: Effective Date: November 1, 2006.

ADDRESSES: Ben Hanslin, Concessions Management Specialist, Southeast Region, National Park Service, 100 Alabama Street, 1924 Building, Atlanta, Georgia 30303.

FOR FURTHER INFORMATION CONTACT: Ben Hanslin, Concessions Management Specialist, Southeast Region, National Park Service, (404) 562-3108, extension 740.

SUPPLEMENTARY INFORMATION: The temporary concession contract is being awarded to Smoky Mountain Stables, Inc., a qualified person, as that term is defined in 36 CFR 51.3. Following termination of the prior concession contract at Sugarlands on May 2, 2005, the National Park Service awarded a temporary concession contract to Smoky Mountain Stables, Inc. on July 6, 2005 that expires on October 31, 2006. A new concession contract cannot be awarded in time to avoid the interruption of visitor services during November 2006 and the 2007 operating season. The National Park Service has taken all reasonable and necessary steps to consider alternatives to avoid interruption of visitor services, and has determined that this award is necessary to avoid interruption of visitor services.

This action is issued pursuant to 36 CFR 51.24(a). This is not a request for proposals and no prospectus is being issued at this time. The Director intends to issue a prospectus in 2007 to allow the competitive award of a long-term concession contract that will be effective prior to the 2008 operation season at Sugarlands. You may be placed on a mailing list for receiving information regarding the prospectus by sending a written request to the above address.

Dated: September 14, 2006.
Patricia A. Hooks,
Regional Director, Southeast Region.

[FR Doc. E6-18969 Filed 11-8-06; 8:45 am]

BILLING CODE 4310-8A-P